DEPARTMENT OF COMMERCE

International Trade Administration

[A-489-815]

Light-Walled Rectangular Pipe and Tube From Turkey: Final Results of Antidumping Duty Administrative Review and Final Determination of No Shipments; 2018-2019

AGENCY: Enforcement and Compliance, International Trade Administration, Department of Commerce.

SUMMARY: The Department of Commerce (Commerce) determines that Noksel Celik Boru Sanayi A.S. (Noksel) made U.S. sales of light-walled rectangular pipe and tube (LWRPT) from Turkey at less than normal value during the period of review (POR) i.e., May 1, 2018, through April 30, 2019.

DATES: Applicable February 24, 2021.

FOR FURTHER INFORMATION CONTACT: Thomas Hanna, AD/CVD Operations, Office IV, Enforcement & Compliance, International Trade Administration, Department of Commerce, 1401 Constitution Avenue NW, Washington, DC 20230; telephone: (202) 482-0835.

SUPPLEMENTARY INFORMATION:

Background

On July 24, 2020, Commerce published the Preliminary Results for the administrative review of the antidumping duty (AD) order covering LWRPT from Turkey for the POR, May 1, 2018, through April 30, 2019.¹ On July 21, 2020, Commerce tolled all deadlines in administrative reviews by 60 days, thereby extending the deadline for these final results until January 19, 2021.² On August 24, 2020, Commerce received case briefs from Nucor Tubular Products Inc. (Nucor) and Noksel.³ On August 31, 2020, Commerce received a rebuttal brief from Nucor.⁴ On January 15, 2021, Commerce extended the deadline for these final results of review until February 16, 2021.⁵

¹ See Light-Walled Rectangular Pipe and Tube from Turkey: Preliminary Results of Antidumping Duty Administrative Review, Partial Rescission, and Preliminary Determination of No Shipments; 2018-2019, 85 FR 44861 (July 24, 2020) (Preliminary Results), and accompanying Preliminary Decision Memorandum.

² See Memorandum, “Tolling of Deadlines for Antidumping and Countervailing Duty Administrative Reviews,” dated July 21, 2020.

³ See Noksel's Letter, “Light-Walled Rectangular Pipe And Tube from Turkey: Noksel's Case Brief,” dated August 24, 2020; see also Nucor's Letter, “Light-Walled Rectangular Pipe and Tube from Turkey: Nucor Tubular's Case Brief and Request to Participate in Any Hearing Requested,” dated August 24, 2020.

⁴ See Nucor's Letter, “Light-Walled Rectangular Pipe and Tube from Turkey: Nucor Tubular's Rebuttal Brief,” dated August 31, 2020.

⁵ See Memorandum, “Light-Walled Rectangular Pipe and Tube from Turkey: Extension of Deadline for Final Results of Antidumping Duty Administrative Review,” dated January 15, 2021.

Scope of the Order

The merchandise covered by the AD order is certain welded carbon quality light-walled steel pipe and tube, of rectangular (including square) cross section, having a wall thickness of less than 4 millimeters. The merchandise subject to the order is classified in the Harmonized Tariff Schedule of the United States at subheadings 7306.61.50.00 and 7306.61.70.60. For a complete description of the scope of the order, see the Issues and Decision Memorandum.⁶

⁶ See Memorandum “2018-2019 Antidumping Duty Administrative Review of Light-Walled Rectangular Pipe and Tube from Turkey: Issues and Decision Memorandum for the Final Results,” dated concurrently with this notice (Issues and Decision Memorandum).

Analysis of Comments Received

We addressed all issues raised in the case and rebuttal briefs filed in this administrative review in the Issues and Decision Memorandum, which is hereby adopted by this notice. A list of the sections in the Issues and Decision Memorandum is in the Appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/index.html. The signed Issues and Decision Memorandum and the electronic version of the Issues and Decision Memorandum are identical in content.

Changes Since the Preliminary Results

We made the following changes to the preliminary dumping margin calculations: (1) We revised the methodology used to assign costs to products that were sold during the POR, but not produced during the POR (see Comment 3 in the Issues and Decision Memorandum); (2) we included international freight and loading expenses in U.S. movement expenses (see Comment 4 in the Issues and Decision Memorandum); and (3) we calculated indexed costs using theoretical, rather than actual, production quantities (see Comment 5 in the Issues and Decision Memorandum).

Final Determination of No Shipments

In the Preliminary Results, we found that the following six companies made no shipments of subject merchandise to the United States during the POR: (1) Çayirova Boru Sanayi ve Ticaret A.S.; (2) Yücel Boru ve Profil Endüstrisi A.S.; (3) Yücelboru Ihracat Ithalat ve Pazarlama A.S.; (4) Tosçelik Profil ve Sac Endüstrisi A.S.; (5) Tosyali Dis Ticaret A.S.; and (6) Toscelik Metal Ticaret A.S.⁷ No parties commented on this determination. For the final results of review, we continue to find that these companies made no shipments of subject merchandise to the United States during the POR.

⁷ See Preliminary Results.

Final Results of Review

We are assigning following dumping margin to the firm listed below for the period May 1, 2018, through April 30, 2019:

Producer or exporter | Weighted average dumping margin (percent)
Noksel Celik Boru Sanayi A.S | 35.06

Disclosure

Commerce intends to disclose the calculations performed for these final results of review within five days of the date of publication of this notice in the Federal Register, in accordance with 19 CFR 351.224(b).

Assessment Rates

Pursuant to section 751(a)(2)(A) of the Tariff Act of 1930, as amended (the Act), and 19 CFR 351.212(b)(1), Commerce has determined, and U.S. Customs and Border Protection (CBP) shall assess, antidumping duties on all appropriate entries.⁸ Commerce calculated importer-specific ad valorem AD assessment rates for Noksel by aggregating for each importer identified for the reported sales, the total amount of dumping calculated for the sales for which that importer was identified and dividing each of these amounts by the total entered value of those sales. Commerce will instruct CBP to assess antidumping duties on all appropriate entries covered by this review where an importer-specific assessment rate is not zero or de minimis.

⁸ In these final results, Commerce applied the assessment rate calculation methodology adopted in Antidumping Proceedings: Calculation of the Weighted-Average Dumping Margin and Assessment Rate in Certain Antidumping Proceedings: Final Modification, 77 FR 8101 (February 14, 2012).

For entries of subject merchandise during the POR produced by Noksel for which it did not know its merchandise was destined for the United States, and for entries associated with the six companies for which Commerce found “no shipments” during the POR, Commerce will instruct CBP to liquidate such unreviewed entries at the all-others rate if there is no rate for the intermediate company(ies) involved in the transactions.⁹

⁹ For a full discussion of this clarification, see Antidumping and Countervailing Duty Proceedings: Assessment of Antidumping Duties, 68 FR 23954 (May 6, 2003).

Consistent with its recent notice,¹⁰ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁰ See Notice of Discontinuation of Policy to Issue Liquidation Instructions After 15 Days in Applicable Antidumping and Countervailing Duty Administrative Proceedings, 86 FR 3995 (January 15, 2021).

Cash Deposit Requirements

The following cash deposit requirements will be effective upon publication of this notice of final results of administrative review in the Federal Register for all shipments of subject merchandise entered, or withdrawn from warehouse, for consumption on or after the date of publication of the notice, as provided by section 751(a)(2)(C) of the Act: (1) The cash deposit rate for Noksel is equal to the weighted-average dumping margin determined in these final results of review; (2) for previously reviewed or investigated companies not listed in the table above, the cash deposit rate will continue to be the company-specific rate published for the most recently completed segment of this proceeding; (3) if the exporter was not covered in this review, a prior completed review, or the investigation, but the producer was covered, the cash deposit rate will be the rate established in the most recently completed segment of this proceeding for the producer of the subject merchandise; and (4) the cash deposit rate for all other producers or exporters will continue to be 27.04 percent ad valorem, the all-others rate established in the investigation in this proceeding.¹¹ These cash deposit requirements, when imposed, shall remain in effect until further notice.

¹¹ See Notice of Final Determination of Sales at Less Than Fair Value: Light-Walled Rectangular Pipe and Tube from Turkey, 73 FR 19814 (April 11, 2008).

Notification to Importers Regarding the Reimbursement of Duties

This notice serves as a final reminder to importers of their responsibility under 19 CFR 351.402(f)(2) to file a certificate regarding the reimbursement of antidumping duties prior to liquidation of the relevant POR entries. Failure to comply with this requirement could result in Commerce's presumption that reimbursement of antidumping duties occurred and the subsequent assessment of doubled antidumping duties.

Notification Regarding Administrative Protective Orders

This notice also serves as a reminder to parties subject to administrative protective orders (APO) of their responsibility concerning the return or destruction of proprietary information disclosed under an APO in accordance with 19 CFR 351.305(a)(3), which continues to govern business proprietary information in this segment of the proceeding. Timely written notification of the return or destruction of APO materials, or conversion to judicial protective order, is hereby requested. Failure to comply with the regulations and terms of an APO is a sanctionable violation.

Notification to Interested Parties

We are issuing and publishing this notice in accordance with sections 751(a)(1) and 777(i) of the Act and 19 CFR 351.221(b)(5).

Dated: February 16, 2021.
Christian Marsh,
Acting Assistant Secretary for Enforcement and Compliance.

Appendix

List of Sections in the Issues and Decision Memorandum

I. Summary

II. Background

III. Scope of the Order

IV. Changes Since the Preliminary Results

V. Discussion of the Issues

Comment 1: Section 232 Duties

Comment 2: Noksel's Duty Drawback Adjustment

Comment 3: Surrogate Costs for Products Sold but Not Produced During the Period of Review

Comment 4: Noksel's Movement Expenses

Comment 5: Theoretical Quantities to Index Costs

VI. Recommendation

[FR Doc. 2021-03788 Filed 2-23-21; 8:45 am]

BILLING CODE 3510-DS-P